FEDERAL COMMUNICATIONS COMMISSION

47 CFR Part 73

[DA 03-2429; MB Docket No. 03-177, RM-10749; MB Docket No. 03-178, RM-10750; MB Docket No. 03-179, RM-10752; MB Docket No. 03-180, RM-10753]

Radio Broadcasting Services; Anacoco, LA; Erie, PA; Greenfield, CA; and Quitaque, TX

AGENCY: Federal Communications Commission.

ACTION: Proposed rule.

SUMMARY: This document proposes four allotments to Anacoco, Louisiana; Erie, Pennsylvania; Greenfield, California; and Quitaque, Texas. The Audio Division requests comments on a petition filed by Charles Crawford proposing the allotment of Channel 276C3 at Anacoco, Louisiana as the community's first local aural transmission service. Channel 276C3 can be allotted to Anacoco in compliance with the Commission's minimum distance separation requirements with a site restriction of 13 kilometers (8.1 miles) northwest to avoid a short-spacing to the licensed site of Station, KAJN-FM, Channel 275C, Crowley, Louisiana. The coordinates for Channel 276C3 at Crowley are 31-19-32 North Latitude and 3-26-48 West Longitude. See SUPPLEMENTARY INFORMATION, infra.

DATES: Comments must be filed on or before September 15, 2003, and reply comments on or before September 30, 2003.

ADDRESSES: Federal Communications Commission, Washington, DC 20554. In addition to filing comments with the FCC, interested parties should serve the petitioner, his counsel, or consultant, as follows: Charles Crawford, 4553 Bordeaux Avenue, Dallas, Texas 75205, Dana J. Puopolo, 2134 Oak Street, Unit C, Santa Monica, California 90405, and Daniel R. Feely, 682 Palisade Street, Pasadena, California 91103.

SUPPLEMENTARY INFORMATION: This is a synopsis of the Commission's Notice of Proposed Rule Making, MB Docket No. 03-177; MB Docket No. 03-178; MB Docket No. 03-179; and MB Docket No. 03-180, adopted July 23, 2003, and released July 25, 2003. The full text of this Commission decision is available for inspection and copying during normal business hours in the FCC Reference Information Center (Room CY-A257), 445 12th Street, SW., Washington, DC. The complete text of this decision may also be purchased from the Commission's copy contractor, Quatex International, Portals II, 445 12th Street, SW., Room CY-B402, Washington, DC 20554.

The Audio Division requests comments on a petition filed by Dana J. Puopolo proposing the allotment of Channel 240A at Erie, Pennsylvania as the community's fifth local FM transmission service. Channel 240A can be allotted to Erie in compliance with the Commission's minimum distance separation requirements with a site restriction of 8.8 kilometers (5.5 miles) northeast to avoid a short-spacing to the licensed site of Station WAKZ(FM), Channel 240A, Sharpsville, Pennsylvania. The coordinates for Channel 240A at Erie are 42-09-54 North Latitude and 79-59-24 West Longitude. Canadian concurrence as a specially-negotiated short-spaced allotment has been requested since Erie is located within 320 kilometers (200 miles) of the U.S.-Canadian border, and the allotment is short-spaced to Station CFPL-FM, Channel 240C1, London, Ontario.

The Audio Division requests comments on a petition filed by Charles Crawford proposing the allotment of Channel 261C3 at Quitaque, Texas, as the community's first local aural transmission service. Channel 261C3 can be allotted to Quitaque in compliance with the Commission's minimum distance separation requirements with a site restriction of 18.1 kilometers (11.3 miles) north to avoid short-spacings to the licensed sites of Station KOMX(FM), Channel 262C2, Pampa, Texas; Station KMMX(FM), Channel 262C1, Tahoka, Texas; and to the proposed allotment site for Channel 263C3, Estelline, Texas.

The Audio Division requests comments on a petition filed by Daniel R. Feely proposing the allotment of Channel 254A at Greenfield, California, as the community's third local aural transmission service. Channel 254A can be allotted to Greenfield in compliance with the Commission's minimum distance separation requirements with city reference coordinates. The coordinates for Channel 254A at Greenfield are 36-19-23 North Latitude and 121-14-41 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 254A at Greenfield.

3. Section 73.202(b), the Table of FM Allotments under Louisiana, is amended by adding Anacoco, Channel 276C3.

4. Section 73.202(b), the Table of FM Allotments under Pennsylvania, is amended by adding Channel 240A at Erie.

5. Section 73.202(b), the Table of FM Allotments under Texas, is amended by adding Quitaque, Channel 261C3.

Federal Communications Commission.
John A. Karousos,
Assistant Chief, Audio Divison, Media Bureau.

[FR Doc. 03-20212 Filed 8-7-03; 8:45 am]

BILLING CODE 6712-01-P